DEPARTMENT OF COMMERCE

Submission for OMB Review; Comment Request

The Department of Commerce (DoC) will submit to the Office of Management and Budget (OMB) for clearance the following proposal for collection of information under the emergency provisions of the Paperwork Reduction Act (44 U.S.C. Chapter 35).

Agency: National Institute of Standards and Technology (NIST), Department of Commerce.

Title: NIST Construction Grant Program Application Requirements.

OMB Control Number: None.

Form Number(s): NIST-1101, NIST-1101A, NIST-1101B.

Type of Request: Emergency submission.

Burden: 250,000.

Number of Respondents: 500.

Average Hours per Response: 500.

Needs and Uses: The American Recovery and Reinvestment Act of 2009 (Pub. L. 111-5) requires NIST to conduct a “competitive construction grant program for research science buildings.” The NIST Construction Grant Program is a competitive financial assistance (grant) program for research science buildings through the construction of new buildings or expansion of existing buildings. For purposes of this program, “research science building” means a building or facility whose purpose is to conduct scientific research, including laboratories, test facilities, measurement facilities, research computing facilities, and observatories. In addition, “expansion of existing buildings” means that space to conduct scientific research is being expanded from what is currently available for the supported research activities.

To receive funding, applicants must submit proposals addressing the NIST Construction Grant Program evaluation criteria. This request is for the information collection requirements associated with applying for funding. The information is used to perform the requisite technical and construction reviews of the proposals to determine if an award should be granted.

Affected Public: Business or other for-profit organizations.

Frequency: Annually.

Respondent's Obligation: Required to obtain or retain a benefit.

OMB Desk Officer: Jasmeet Seehra, (202) 395-3123.

Copies of the above information collection proposal can be obtained by calling or writing Diana Hynek, Departmental Paperwork Clearance Officer, (202) 482-0266, U.S. Department of Commerce, Room 7845, 14th and Constitution Avenue, NW., Washington, DC 20230 (or via the Internet at dHynek@doc.gov).

Written comments and recommendations for the proposed information collection should be sent by April 20, 2009 to Jasmeet Seehra, OMB Desk Officer, Fax number (202) 395-5806 or via the Internet at Jasmeet_K._Seehra@omb.eop.gov.

Dated: April 10, 2009.
Gwellnar Banks,
Management Analyst, Office of the Chief Information Officer.

[FR Doc. E9-8580 Filed 4-14-09; 8:45 am]

BILLING CODE 3510-13-P